DEPARTMENT OF HEALTH AND HUMAN SERVICES

National Institutes of Health

National Institute of Environmental Health Sciences Amended; Notice of Meeting

Notice is hereby given of a change in the meeting of the National Institute of Environmental Health Sciences Special Emphasis Panel, June 6, 2013, 08:00 a.m. to June 6, 2013, 05:00 p.m., Hilton Garden Inn Durham Southpoint Hotel, 7007 Fayetteville Road, Durham, NC 27713 which was published in the Federal Register on May 8, 2013, 78 FR 89.

The meeting notice is amended to change the date of the meeting from June 6, 2013 to July 15, 2013 and to change the meeting location from the Hilton Garden Inn Durham Southpoint Hotel to the DoubleTree by Hilton Hotel. The meeting is closed to the public.

Dated: May 14, 2013.
Carolyn Baum,
Program Analyst, Office of Federal Advisory Committee Policy.

[FR Doc. 2013-11861 Filed 5-17-13; 8:45 am]

BILLING CODE 4140-01-P